NATIONAL TRANSPORTATION SAFETY BOARD

49 CFR Part 821

[Docket No. NTSB-GC-2011-0001]

Rules of Practice in Air Safety Proceedings

AGENCY: National Transportation Safety Board (NTSB or Board).

ACTION: Notice of proposed rulemaking; reopening of comment period.

SUMMARY: The NTSB amends the comment deadline for a Notice of Proposed Rulemaking (NPRM) published on September 19, 2013. The proposed change in the NPRM would require the Federal Aviation Administration (FAA) to provide releasable portions of the enforcement investigative report (EIR) to each respondent in emergency cases.

DATES: The comment period for the proposed rule published September 19, 2013, at 78 FR 57602, is reopened. Comments must be submitted by November 6, 2013.

ADDRESSES: A copy of the NPRM, published in the Federal Register (FR), is available for inspection and copying in the NTSB's public reading room, located at 490 L'Enfant Plaza SW., Washington, DC 20594-2003. Alternatively, a copy is available on the government-wide Web site on regulations at http://www.regulations.gov (Docket ID Number NTSB-GC-2011-0001).

FOR FURTHER INFORMATION CONTACT: David Tochen, General Counsel, (202) 314-6080.

SUPPLEMENTARY INFORMATION: On September 19, 2013, the NTSB published an NPRM and a Final Rule, finalizing changes to various sections of 49 CFR part 821, as a result of the Pilot's Bill of Rights. 78 FR 57602 (NPRM); 78 FR 57527 (Final Rule). In the NPRM, the NTSB proposed requiring the release of the EIR in emergency cases proceeding under subpart I of the NTSB's rules.

On October 1, 2013, the NTSB ceased normal agency operations due to a lapse in funding. The NTSB did not resume normal agency activities until October 17, 2013. As a result, the NTSB believes it is prudent to extend the October 21 deadline for comments on the NPRM. The NTSB will now consider all comments submitted by the end of the day on November 6, 2013; comments received after the deadline will be considered to the extent they do not affect the progress of this rulemaking.

Deborah A.P. Hersman,
Chairman.

[FR Doc. 2013-25156 Filed 10-22-13; 4:15 pm]

BILLING CODE P